DEPARTMENT OF AGRICULTURE

Office of Advocacy and Outreach

1994 Tribal Scholars Program; Notice of Request for Reinstatement of a Previously Approved Collection

AGENCY: Office of Advocacy and Outreach, USDA.

ACTION: Notice and request for comments.

SUMMARY: In accordance with the Paperwork Reduction Act of 1995 (44 U.S.C. Chapter 35), this notice announces the Office of Advocacy and Outreach's (OAO) intention to request approval from the Office of Management and Budget (OMB) for the reinstatement of a previously approved data collection for the U.S. Department of Agriculture (USDA) 1994 Tribal Scholars Program.

DATES: Comments on this notice must be received by June 24, 2016 to be assured of consideration.

Additional Information or Comments:

Contact: Lawrence Shorty, Program Director, USDA 1994 Program, 1400 Independence Avenue SW., Mailstop: 0601, Washington, DC 20250.

Phone: (202) 720-7265.

Fax: (202) 720-7704.

SUPPLEMENTARY INFORMATION: Title: USDA 1994 Tribal Scholars Program.

OMB Number: 0503-0016.

Expiration Date of Approval: Three years from approval date.

Type of Request: Reinstatement of a previously approved information collection.

Abstract: The purpose of the U.S. Department of Agriculture (USDA) 1994 Tribal Scholars Program is to strengthen the long-term partnership between USDA and the 1994 Land-Grant Institutions to increase the number of students studying and graduating in food, agriculture, natural resources, and other related fields of study, and to develop the pool of scientists and professionals to annually fill 50,000 jobs in the food, agricultural, and natural resources system.

The USDA 1994 Tribal Scholars Program, within the Office of the Assistant Secretary for Administration, Office of Advocacy and Outreach, is an annual, joint human capital initiative between USDA and the Nation's 1994 Land-Grant Institutions, also known as 1994 Tribal Colleges and Universities (1994 TCUs). This program offers a combination of paid work experience with a USDA sponsoring agency through an appointment under the Fellowship Experience Program (FEP). FEP will permit the recruitment and selection of exceptional students majoring in agriculture related fields of study at USDA partner colleges and universities. Under the FEP, students will fill Excepted Service positions, receive mentoring, and be provided developmental assignments. These temporary appointments will be made using the Schedule A in 5 CFR 213.3102(r) and may not exceed 4 years based on defined criteria.

When students graduate, they will be eligible to compete for job opportunities at USDA. Additionally, the experience the students gain via classroom instruction in their respective degree paths, along with their USDA work experience, will make them strong candidates for opportunities in agriculture and agri-business related fields. The USDA 1994 Tribal Scholars Program is designed to integrate classroom study into a degreed college or university program such as agriculture and natural resources, which prepares the student for competing for positions in the sponsoring agency's future workforce and with paid tuition, fees, books, use of a laptop computer, and leadership training. The program is conducted in accordance with a planned schedule and a working agreement between USDA agencies and the student.

The USDA 1994 Tribal Scholars Program will offer scholarships and internships to U.S. citizens for a period of up to 4 years. The eligibility standards are:

1. Must be at least 16 years old.

2. Must be able to complete required occupation-related work experience (640 hours) prior to or concurrently with the completion of course requirements for the degree.

3. Must be a United States citizen or national (resident of American Samoa or Swains Island). If you are not a citizen, you may participate if you are legally admitted to the United States as a permanent resident, and are able to meet United States citizenship requirements prior to completion of your degree.

4. Must be in good academic standing. Cannot be on academic probation. Must furnish course registration information at the start of each school term; must provide verification of academic status at the end of each academic term (grade report or transcript); must meet academic standards as set forth by the school they are attending; maintain satisfactory progress in completing academic requirements; and demonstrate satisfactory performance and conduct.

5. If selected, students must sign USDA Fellowship agreements.

6. Must be enrolled in, accepted, or plan to seek a Bachelor's or Associate's degree in an accredited 1994 Tribal Land-Grant College or University as demonstrated by a declaration of a major course of study.

7. Carry at a minimum, a half-time course load as defined by the institution.

8. Be enrolled in an academic major related to the occupation being considered.

Summary of Collection: Each applicant will be required to submit an application for the USDA 1994 Tribal Scholars Program; proof of acceptance or enrollment in school via transcript (mandatory for current students and recent graduates); and a letter of acceptance (or proof of registration, or letter from school official) on official letterhead; if applicable.

If selected, each student must furnish course registration at the start of each school term, provide verification of academic status at the end of each academic term (grade report or transcript), meet academic standards as set forth by the school they are attending, maintain satisfactory progress in completing academic requirements, and demonstrate satisfactory performance and conduct.

Need and Use of the Information: The information is needed for identifying and tracking applicants that match the human capital needs of USDA agencies from 1994 Land-Grant Institutions through an internship and an award of an annually reviewed and renewed scholarship with the objective of preparing the student to compete for placement into USDA's workforce.

Estimate of Burden: Public reporting burden for this collection of information is estimated to average 1.2 hours per response.

Respondents: Individuals attending or interested in attending 1994 Land Grant Institutions, teachers, principals, and guidance counselors, and USDA Agency supervisors.

Estimated Number of Respondents: 480.

Estimated Number of Responses: 1440.

Estimated Number of Responses per Respondent: 3.

Estimated Total Annual Burden on Respondents: 4320 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on respondents, including the use of appropriate automated, electronic, mechanical, or other technological collection techniques or other forms of information technology. Comments may be sent to Lawrence Shorty, Program Director, USDA 1994 Program, Office of Advocacy and Outreach, 1400 Independence Avenue SW., Mail Stop 0601, Washington, DC 20250.

All comments received will be available for public inspection during regular business hours at the same address.

All responses to this notice will be summarized and included in the request for OMB approval. All comments will become a matter of public record.

Carolyn C. Parker,
Office of Advocacy and Outreach, U.S. Department of Agriculture.

[FR Doc. 2016-09562 Filed 4-22-16; 8:45 am]

BILLING CODE P